DEPARTMENT OF COMMERCE

National Oceanic and Atmospheric Administration

[RTID 0648-XB476]

Council Coordination Committee Meeting

AGENCY: National Marine Fisheries Service (NMFS), National Oceanic and Atmospheric Administration (NOAA), Commerce.

ACTION: Notice of a public meeting; information regarding the agenda.

SUMMARY: The Pacific Fishery Management Council will host a virtual meeting of the Council Coordination Committee (CCC), consisting of the Regional Fishery Management Council (Council) chairs, vice chairs, and executive directors from October 19 to October 21, 2021. The intent of this meeting is to discuss issues of relevance to the Councils and NMFS, including issues related to the implementation of the Magnuson-Stevens Fishery Conservation and Management Reauthorization Act (MSA).

DATES: The online meeting will begin at 1:30 p.m. Eastern Daylight Time (EDT) on Tuesday, October 19, 2021, recess at 5:30 p.m., reconvene at 1:30 p.m. EDT on Wednesday, October 20, 2021, recess at 5:30 p.m., and reconvene on the final day at 1:30 p.m. EDT Thursday, October 21, 2021, adjourning at 5:30 p.m.

ADDRESSES: The meeting will be held online via RingCentral Webinar. Attendees can find information on how to join at https://www.fisheries.noaa.gov/national/partners/council-coordination-committee and http://www.fisherycouncils.org/ccc-meetings. You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Chuck Tracy, Executive Director, Pacific Fishery Management Council; telephone: (503) 820-2415 or (866) 806-7204 toll-free.

SUPPLEMENTARY INFORMATION: The 2007 reauthorization of the Magnuson-Stevens Fishery Conservation and Management Act established the CCC. The CCC consists of the chairs, vice chairs, and executive directors of each of the eight Regional Fishery Management Councils, or their respective proxies. All sessions are open to the public and time will be set aside for public comments at the end of each day and after specific sessions at the discretion of the meeting Chair. The meeting Chair will announce public comment times and instructions to provide comment at the start of each meeting day. Updates to this meeting, briefing materials, and additional information will be posted when available on https://www.fisheries.noaa.gov/national/partners/council-coordination-committee and http://www.fisherycouncils.org/.

Proposed Agenda

Tuesday, October 19, 2021—1:30 p.m.-5:30 p.m., EDT

1. Welcome and Introduction

2. Approval of Agenda and Minutes

3. NMFS Update and Upcoming Priorities

4. NMFS Science Update

5. Funding and Budget Update

6. CEQ NEPA Regulation Update

7. National Standard 1 Technical Memorandums

8. Public Comment

Adjourn Day 1

Wednesday, October 20, 2021—1:30 p.m.-5:30 p.m., EDT

9. Legislative Outlook

10. Executive Orders

11. Public Comment

Adjourn Day 2

Thursday, October 21, 2021—1:30 p.m.-5:30 p.m., EDT

12. Underserved Communities

13. Report on National Fish Habitat Board

14. PCCC Committees Reports and Guidance

15. Public Comment

16. Wrap-up and Other Business

Adjourn Day 3

The order in which the agenda items are addressed may be adjusted by the meeting Chair to stay on time. The CCC will meet as late as necessary to complete scheduled business.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: September 28, 2021.
Tracey L. Thompson,
Acting Deputy Director, Office of Sustainable Fisheries, National Marine Fisheries Service.

[FR Doc. 2021-21413 Filed 9-30-21; 8:45 am]

BILLING CODE 3510-22-P